DEPARTMENT OF COMMERCE

National Oceanic and Atmospheric Administration

[I.D. 073103A]

Marine Mammals; File No. 550-1712

AGENCY: National Marine Fisheries Service (NOAA Fisheries), National Oceanic and Atmospheric Administration (NOAA), Commerce.

ACTION: Issuance of permit.

SUMMARY: Notice is hereby given that Bernd Wursig, Ph.D., Professor of Marine Biology, Professor of Wildlife and Fisheries Science, Director, Institute of Marine Life Sciences, Texas A&M University, 4700 Avenue U, Building 303, Galveston, TX 77551 has been issued a permit to take bottlenose dolphins (Tursiops truncatus) for purposes of scientific research.

ADDRESSES: The permit and related documents are available for review upon written request or by appointment in the following office(s):

Permits, Conservation and Education Division, Office of Protected Resources, NOAA Fisheries, 1315 East-West Highway, Room 13705, Silver Spring, MD 20910; phone (301)713-2289; fax (301)713-0376; and

Southeast Region, NOAA Fisheries, 9721 Executive Center Drive North, St. Petersburg, FL 33702-2432; phone (727)570-5301; fax (727)570-5320.

FOR FURTHER INFORMATION CONTACT: Jill Lewandowski or Carrie Hubard, (301)713-2289.

SUPPLEMENTARY INFORMATION: On June 17, 2003, notice was published in the Federal Register (68 FR 35859) that a request for a scientific research permit to take bottlenose dolphins had been submitted by the above-named individual. The requested permit has been issued under the authority of the Marine Mammal Protection Act of 1972, as amended (16 U.S.C. 1361 et seq.) and the Regulations Governing the Taking and Importing of Marine Mammals (50 CFR part 216).

The purpose of the authorized research, as stated in the application, is to study the behavioral ecology of bottlenose dolphins in the Gulf of Mexico. Research will occur over a five-year period and focus specifically along the Texas and Louisiana coastlines.

Dated: August 25, 2003.
Stephen L. Leathery,
Chief, Permits, Conservation and Education Division, Office of Protected Resources, NOAA Fisheries.

[FR Doc. 03-22918 Filed 9-8-03; 8:45 am]

BILLING CODE 3510-22-S